NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by August 26, 2021. This application may be inspected by interested parties at the Permit Office, address below.

ADDRESSES: Comments should be addressed to Permit Office, Office of Polar Programs, National Science Foundation, 2415 Eisenhower Avenue, Alexandria, Virginia 22314.

FOR FURTHER INFORMATION CONTACT: Polly Penhale, ACA Permit Officer, at the above address, 703-292-7420, or ACApermits@nsf.gov.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2022-004

1. Applicant: Dr. Dale Andersen, SETI Institute, 189 Bernardo Ave. #200, Mountain View, CA 94043

Activity for Which Permit is Requested: Waste management. The applicant seeks a waste management permit to conduct multi-disciplinary research activities to expand both short- and long-term studies of ecological responses in Antarctic ecosystems. This permit covers accidental release of wastes generated through planned research and logistical operations. Wastes include solid and liquid waste, including designated pollutants and release to air. The applicant has provided a detailed mitigation plan for these categories of waste as well as a plan for removal of waste at the end of deployment. The applicant also plans to use small, battery-operated, remotely controlled aircraft systems to collect imagery to aid in the mapping of geomorphological structures and to collect information on local climate. Aircrafts will be flown at altitudes less than 100m by experienced pilots and will not fly over concentrations of wildlife, should any be in the area.

Location: Queen Maud Land, East Antarctica.

Dates of Permitted Activities: October 20, 2021-February 28, 2026.

Erika N. Davis,
Program Specialist, Office of Polar Programs.

[FR Doc. 2021-15968 Filed 7-26-21; 8:45 am]

BILLING CODE 7555-01-P